ENVIRONMENTAL PROTECTION AGENCY

[OW-2003-0064, FRL-7822-6]

National Clean Water Act Recognition Awards: Presentation of Awards at the Water Environment Federation's Technical Exposition and Conference (WEFTEC), and Announcement of 2004 National Awards Winners

AGENCY: Environmental Protection Agency (EPA)

ACTION: Notice.

SUMMARY: The Environmental Protection Agency will recognize municipalities and industries for outstanding and innovative technological achievements in wastewater treatment and pollution abatement programs at the annual Clean Water Act Recognition Awards ceremony during the Water Environment Federation's Technical Exposition and Conference (WEFTEC) in New Orleans, Louisiana. An inscribed plaque will be presented to first and second place winners for projects and programs in operations and maintenance at wastewater treatment plants, biosolids management, pretreatment, storm water management and combined sewer overflow controls. This action also announces the 2004 national awards winners.

DATES: Monday, October 4, 2004, 11:30 a.m. to 1 p.m.

ADDRESSES: The national awards presentation ceremony will be held at the Ernest N. Morial Convention Center, 900 Convention Center Boulevard, New Orleans, Louisiana.

FOR FURTHER INFORMATION CONTACT: Maria E. Campbell, Telephone: (202) 564-0628. Facsimile Number: (202) 501-2396. E-Mail: campbell.maria@epa.gov. Also visit the Office of Wastewater Management's webpage at http://www.epa.gov/owm.

SUPPLEMENTARY INFORMATION: The Clean Water Act Recognition Awards are authorized by section 501(a) and (e) of the Clean Water Act, and 33 U.S.C. 1361(a) and (e). Applications and nominations for the national award must be recommended by EPA regions. State agencies can also provide recommendations to EPA regional offices. A regulation establishes a framework for the annual recognition awards program at 40 CFR part 105. EPA announced the availability of application and nomination information for this year's awards (69 FR 13826, March 24, 2004). The awards program provides national recognition and encourages public support of programs aimed at protecting the public's health and safety and the nation's water quality. Programs and projects being recognized are in compliance with applicable water quality requirements and have a satisfactory record with respect to environmental quality. Municipalities and industries are recognized for their demonstrated achievements in five awards categories as follows:

(1) Outstanding operations and maintenance practices at wastewater treatment facilities;

(2) Exemplary biosolids management projects, technology/innovation or development activities, research and public acceptance efforts;

(3) Outstanding municipal implementation and enforcement of local pretreatment programs;

(4) Implementing outstanding, innovative, and cost-effective storm water control; and,

(5) Outstanding combined sewer overflow control programs.

The winners of the EPA's 2004 National Clean Water Act Recognition Awards are listed below by category.

| Sub-category
Operations and Maintenance Awards Category
First place:
Dos Rios Water Reclamation Center, San Antonio Water Systems, San Antonio, Texas | Large Advanced Plant.
City of Dunbar Sanitary Board, Dunbar, West Virginia | Medium Advanced Plant.
Florence Regional Sewage District, Florence, Indiana | Small Advanced Plant.
Oceanside Treatment Plant, Southwest Ocean, Outfall and Westside Wet Weather Facility, San Francisco, California | Large Secondary Plant.
Central Davis Sewer District, Kaysville, Utah | Medium Secondary Plant.
Old Forge Sewer District, Old Forge, New York | Small Secondary Plant.
Second place:
James C. Kirie Water Reclamation Plant, Des Plaines, Illinois | Large Advanced Plant.
Iowa Hill Water Reclamation Facility, Breckenridge Sanitation District, Breckenridge, Colorado | Medium Advanced Plant.
Beaver Estates Water Pollution Control Plant, Douglasville-Douglas County Water & Sewer Authority, Douglasville, Georgia | Small Advanced Plant.
Gautier Regional Wastewater Treatment Plant, Pascagoula, Mississippi | Medium Secondary Plant.
Henniker, New Hampshire Wastewater Treatment Facility, Henniker, New Hampshire | Small Secondary Plant.
Biosolids Management Awards Category
First place:
Metro Denver—Metrogro Farm, Denver, Colorado | Large Operating Projects (tie).
Parker Ag Services-NYC Program, Lamar, Colorado | Large Operating Projects (tie).
Central Davis Sewer District, Kaysville, Utah | Small Operating Projects.
Dr. Sally Brown, College of Forest Research, University of Washington, Seattle, Washington | Research Activities.
City of Tacoma Wastewater Management, Tacoma, Washington | Technology/Innovation or Development Activities.
Second place:
Clean Water Services of Washington County, Hillsboro, Oregon | Large Operating Projects.
Rockingham WWTP & Composting Facility, Rockingham, North Carolina | Small Operating Projects.
Special award:
Orange County Sanitation District, Fountain Valley, California | Continued commitment to effective program planning, management, public outreach and stakeholder involvement, and pioneer efforts in developing and implementing their Biosolids Environmental Management Systems (EMS).
Pretreatment Awards Category
First place:
Borough of Catasauqua, Catasauqua, Pennsylvania | 0 to 5 Significant Industrial Users (SIUs).
Warwick Sewer Authority, Warwick, Rhode Island | 6-20 SIUs.
East Bay Municipal Utility District, Oakland, California | 21 & Greater SIUs.
Second place:
Kent County Regional Wastewater Treatment Facility, Dover, Delaware | 6-20 SIUs.
Columbus Water Works, Columbus, Georgia | 21 & Greater SIUs (tie).
Hampton Roads Sanitation District, Virginia Beach, Virginia | 21 & Greater SIUs (tie).
Stormwater Management Awards Category
First place:
Sanitation District No. 1 of Northern Kentucky, Fort Wright, Kentucky | Municipal.
Second place:
City of Sacramento Stormwater Quality Improvement Program, Sacramento, California | Municipal.
Combined Sewer Overflow Controls
First place:
City of Mount Clemens, Mount Clemens, Michigan | Municipal.
Second place:
City of Port Huron, Port Huron, Michigan | Municipal.

Dated: September 23, 2004.
Elaine Brenner,
Acting Director, Office of Wastewater Management.

[FR Doc. 04-22087 Filed 9-30-04; 8:45 am]

BILLING CODE 6560-50-P